NATIONAL SCIENCE FOUNDATION

Sunshine Act Meetings

The National Science Board's (NSB) Committee on Strategy hereby gives notice of the scheduling of a teleconference for the transaction of National Science Board business pursuant to the National Science Foundation Act and the Government in the Sunshine Act.

TIME AND DATE: Thursday, November 7, 2024, from 11:00 a.m.-12:00 p.m. Eastern.

PLACE: This meeting will be held by teleconference through the National Science Foundation.

STATUS: Open.

MATTERS TO BE CONSIDERED: The agenda of the teleconference is: Chair's Opening Remarks; Development of 2026-2030 Strategic Plan and Learning Agenda.

CONTACT PERSON FOR MORE INFORMATION: Point of contact for this meeting is: Michelle McCrackin (mmccrack@nsf.gov) 703/292-7000. Members of the public can observe this meeting through a YouTube livestream. Visit https://www.youtube.com/watch?v=MIogDDOiDiM.

Ann Bushmiller,
Senior Counsel to the National Science Board.

[FR Doc. 2024-25600 Filed 10-31-24; 11:15 am]

BILLING CODE 7555-01-P